NUCLEAR REGULATORY COMMISSION

10 CFR Part 72

Licensing Requirements for the Independent Storage of Spent Nuclear Fuel, High-Level Radioactive Waste, and Reactor-Related Greater Than Class C Waste

CFR Correction

In Title 10 of the Code of Federal Regulations, Parts 51 to 199, revised as of January 1, 2007, on page 395, in § 72.214, Certificate of Compliance 1005 is reinstated to read as follows:

§ 72.214 List of approved spent fuel storage casks.

* * * * *

Certificate Number: 1005

SAR Submitted by: Transnuclear, Inc.

SAR Title: TN-24 Dry Storage Cask Topical Report.

Docket Number: 72-1005.

Certification Expiration Date: November 4, 2013.

Model Number: TN-24.

* * * * *

[FR Doc. 07-55524 Filed 12-27-07; 8:45 am]

BILLING CODE 1505-01-D